DEPARTMENT OF HEALTH AND HUMAN SERVICES

National Institutes of Health

Prospective Grant of Exclusive License: Treatment of Cancer, Osteoporosis or any Disease Involving Unwanted or Dysregulated Angiogenesis

AGENCY: National Institutes of Health, Public Health Service, DHHS.

ACTION: Notice.

SUMMARY: This is notice, in accordance with 35 U.S.C. 209(c)(1) and 37 CFR 404.7(a)(1)(i), that the National Institutes of Health, Department of Health and Human Services, is contemplating the grant of an exclusive license worldwide to practice the invention embodied in the Provisional Patent Application No. 60/220,270, entitled “Biologically Active Macrolides, Compositions and Uses Thereof”, filed July 24, 2000, to Attenuon LLC, a U.S. corporation located at 10130 Sorrento Valley Rd. Suite B, San Diego, CA 92121. The patent rights of this invention have been assigned to the United States of America. The proposed field of use may be limited to the treatment of cancer, osteoporosis or any disease involving unwanted or dysregulated angiogenesis.

DATES: Only written comments and/or applications for a license received by the NIH Office of Technology Transfer on or before October 29, 2001 will be considered.

ADDRESSES: Requests for a copy of the patent application, inquiries, comments and other materials relating to the contemplated license should be directed to: Wendy R. Sanhai, Ph.D., Technology Licensing Specialist, Office of Technology Transfer, National Institutes of Health, 6011 Executive Boulevard, Suite 325, Rockville, MD 20852-3804; Telephone: (301) 496-7736 ext. 244; Facsimile: (301) 402-0220; E-mail: sanhaiw@od.nih.gov. A signed Confidential Disclosure Agreement will be required to receive copies of the patent application.

SUPPLEMENTARY INFORMATION: The invention describes the identification of a novel class of polyunsaturated macrolides called the chondropsins. They are implicated in processes relating to cellular proliferation, angiogenesis, tumor cell invasiveness, metastasis and drug resistance.

The prospective exclusive license territory will be worldwide and will be royalty-bearing. Said license may be granted within sixty (60) days from the date of this published notice unless the NIH receives written evidence and argument establishing that granting this license is inconsistent with the terms and conditions of 35 U.S.C. 209(c)(1) and 37 CFR 404.7(a)(1)(i).

Since the chondropsins were first reported from an Australian collection, the prospective licensee will be required to comport with all applicable federal and country-of-collection policies relating to biodiversity. The prospective licensee will, therefore, be obligated to negotiate and enter into an agreement with the Australian Institute of Marine Science (AIMS) in Townsville, Queensland.

Properly filed competing applications for a license filed in response to this notice will be treated as objections to the contemplated license. Comments and objections submitted in response to this notice will not be made available for public inspection, and, to the extent permitted by law, will not be released under the Freedom of Information Act, 5 U.S.C. 552.

Dated: August 23, 2001.
Jack Spiegel,
Director, Division of Technology Development and Transfer, Office of Technology Transfer.

[FR Doc. 01-21779 Filed 8-28-01; 8:45 am]

BILLING CODE 4140-01-P